DEPARTMENT OF ENERGY

Office of Arms Control and Nonproliferation

Proposed Subsequent Arrangement

AGENCY: Department of Energy.

ACTION: Subsequent arrangement.

SUMMARY: This notice has been issued under the authority of section 131 of the Atomic Energy Act of 1954, as amended (42 U.S.C. 2160). The Department is providing notice of a proposed “subsequent arrangement” under the Agreement for Cooperation Between the Government of the United States of America and the Government of the Argentine Republic Concerning Peaceful Uses of Nuclear Energy and Agreement for Cooperation Between the Government of the United States of America and the Government of the People's Republic of China Concerning Peaceful Uses of Nuclear Energy.

This subsequent arrangement concerns the retransfer of two zircalloy-4 tubes, 1500 mm long, 0.42 mm thick and 13.08 mm diameter, from CONUAR—Combustibles Nucleares Argentinos S.A., Argentina to Gao Tai Rare and Precious Metals Co., Shanghai, China (Gao Tai). The material will be used by the German company Nukem GmbH in the installation and testing of an ultrasonic test system sold to Gao Tai. The Chinese Government has provided formal assurances to the United States Government that the zircalloy tubes will become subject to the terms and conditions of the Agreement for Cooperation upon their receipt into China.

In accordance with section 131 of the Atomic Energy Act of 1954, as amended, we have determined that this subsequent arrangement is not inimical to the common defense and security.

This subsequent arrangement will take effect no sooner than fifteen days after the date of publication of this notice.

Dated: September 14, 2001.
For the Department of Energy.
Kurt Siemon,
Acting Director, Office of Nonproliferation Policy.

[FR Doc. 01-23424 Filed 9-19-01; 8:45 am]

BILLING CODE 6450-01-P